DEPARTMENT OF TRANSPORTATION

Federal Aviation Administration

2016 Meetings of the Equip 2020 Plenary and Working Groups; Supplemental Notice

AGENCY: Federal Aviation Administration (FAA), DOT.

ACTION: Supplemental notice of meeting.

SUMMARY: Due to scheduling conflicts, the FAA is rescheduling meeting dates that were published in the notice May 6, 2016, announcing the 2016 meetings of the Equip 2020 Plenary and Working Groups.

DATES: Meeting 2 is rescheduled for Thursday, September 29, at 8:30 a.m.; and meeting 3 is rescheduled for Tuesday, December 6, at 8:30 a.m.

ADDRESSES: Meetings 2 and 3 will be held at Helicopter Association International, 1920 Ballenger Ave., Alexandria, VA 22314.

FOR FURTHER INFORMATION CONTACT: Elisabeth Auld, Program Support—FAA AVS Safety Technical Support Services Flight Technologies and Procedures Division; Email: Elisabeth.ctr.auld@faa.gov, Phone: 202-267-4976. More information on ADS-B Out can be found at https://www.faa.gov/nextgen/equipadsb/.

SUPPLEMENTARY INFORMATION:

Meeting Procedures

(a) Meeting attendance is by invitation only, and is generally limited to those that have participated in previous meetings or are a proxy from their organization.

(b) All meetings start at 8:30 a.m. and conclude at approximately 3:30 p.m. Doors open 30 minutes prior to the beginning of each meeting

(c) Equip 2020 meetings generally start with 2 hours of Plenary briefings/discussion, 2-3 hours of working group meetings and 1-2 hours of Plenary for working group out briefs. Working groups are currently: Air Carrier Equipage, General Aviation Equipage and Engagement, Benefits and ADS-B In and Installation and Approvals.

(d) Contact Elisabeth Auld (elisabeth.ctr.auld@faa.gov) to request an invitation. There are no plans for telecon/webex access to these meetings.

(e) The meetings will not be formally recorded. However, minutes are posted approximately 2-3 weeks after the meeting on the Equip 2020 SharePoint site https://avssp.faa.gov/avs/afs400/EQUIP2020/SitePages/Equip2020.aspx.

Authority: 49 U.S.C. 106(f), 106(g); 40103, 40113, 40120; E.O. 10854, 24 FR 9665, 3 CFR, 1959-1963 Comp., p.389.

Issued in Washington, DC, on July 20, 2016.
Mark Steinbicker,
Assistant Manager, Flight Technologies and Procedures Division.

[FR Doc. 2016-18525 Filed 8-3-16; 8:45 am]

BILLING CODE 4910-13-P